DEPARTMENT OF TRANSPORTATION

Pipeline and Hazardous Materials Safety Administration

[Docket No. PHMSA-98-4470]

Pipeline Safety: Meeting of the Technical Hazardous Liquid Standards Committee

AGENCY: Pipeline and Hazardous Materials Safety Administration (PHMSA), Department of Transportation (DOT).

ACTION: Notice of meeting.

SUMMARY: This notice announces a public meeting of PHMSA's Technical Hazardous Liquid Pipeline Safety Standards Committee (THLPSSC) to vote on a proposed rule to extend pipeline safety regulation to rural onshore hazardous liquid gathering lines and low stress lines. This proposed rule partially addresses a statutory requirement of the Pipeline Inspection, Protection, Enforcement, and Safety Act of 2006 (PIPES Act of 2006).

DATES: The THLPSSC will meet on Monday, February 12, 2007, from 11:30 a.m. to 5 p.m. EST.

ADDRESSES: The Committee members will join in by telephone conference call. Members of the public may attend the meeting at the U.S. Department of Transportation (DOT), 400 Seventh Street, SW., Washington, DC, in room 2103.

FOR FURTHER INFORMATION CONTACT: For additional information regarding this meeting contact Cheryl Whetsel at (202) 366-4431, or by e-mail at cheryl.whetsel@dot.gov.

SUPPLEMENTARY INFORMATION:

1. Meeting Details

Members of the public who want to make an oral statement should notify Cheryl Whetsel before February 5. The presiding officer at the meeting may deny any request to present an oral statement and may limit the time of any presentation.

You may send or deliver your comments to DOT's Docket Facility or send them electronically by the Web page http://dms.dot.gov. All comments should reference docket number PHMSA-98-4470. If you would like confirmation of mailed comments, please include a self-addressed stamped postcard. The Docket Facility is in Room PL-401, DOT, 400 Seventh Street, SW., Washington, DC 20590-0001. It is open from 9 a.m. to 5 p.m., Monday through Friday, except on Federal holidays. Comments must arrive before February 5, 2007.

Privacy Act Statement: Anyone may search the electronic form of all comments received for any of our dockets. You may review DOT's complete Privacy Act Statement in the Federal Register published on April 11, 2000 (65 FR 19477) or you may visit http://dms.dot.gov.

Information on Services for Individuals with Disabilities: For information on facilities or services for individuals with disabilities, or to request special assistance at the meeting, please contact Cheryl Whetsel at (202) 366-4431 by February 5, 2007.

2. THLPSSC Background

The THLPSSC is a statutorily mandated advisory committee that advises PHMSA on proposed safety standards for hazardous liquid pipelines. The THLPSSC was established under section 10(a)(2) of the Federal Advisory Committee Act (Pub. L. 92-463, 5 U.S.C. App. 1) and the pipeline safety law (49 U.S.C. Chap. 601). The committee consists of 15 members—five each representing government, industry, and the public.

The pipeline safety law requires PHMSA to seek the THLPSSC's advice on the reasonableness, cost-effectiveness, and practicability of proposed safety standards for hazardous liquid pipelines. The pipeline safety law also requires PHMSA to submit the cost-benefit analyses and risk assessment information on each proposed standard to the appropriate advisory committee. THLPSSC evaluates the merits of the data and, when appropriate, provides recommendations on the adequacy of the cost-benefit analyses.

3. Background on the Proposed Rule

The THLPSSC will discuss and vote on the Notice of Proposed Rulemaking to extend pipeline safety regulations to rural onshore hazardous liquid gathering lines and low stress lines. Discussion will include comments received on the proposed rule published on September 6, 2006, and the recently passed Congressional direction on the subject of this rulemaking.

On December 29, 2006, the President signed the PIPES Act of 2006 (Pub. L. 109-468) reauthorizing the pipeline safety program. The Act requires PHMSA to extend regulation to all low stress hazardous liquid pipelines. To accomplish this, we need additional information on the economic and energy impacts extension of the regulations will have on the operators of these pipelines. Many of these may be small operators. While we gather this information, we intend to act on the current proposal to extend safety regulation to currently unregulated rural onshore gathering lines and certain unregulated low stress pipelines. This will expedite safety protection for these pipelines.

PHMSA will issue a final rule based on the proposed rule, the comments received from the public, and the vote and comments of the advisory committee.

Authority: 49 U.S.C. 60102, 60115.

Issued in Washington, DC on January 11, 2007.
Theodore L. Willke,
Acting Associate Administrator for Pipeline Safety.

[FR Doc. E7-653 Filed 1-19-07; 8:45 am]

BILLING CODE 4910-60-P